DEPARTMENT OF ENERGY

Federal Energy Regulatory Commission

Notice of Temporary Variance and Soliciting Comments, Motions To Intervene, and Protests

August 1, 2002.

Take notice that the following application has been filed with the Commission and is available for public inspection:

a. Application Type: Request for temporary variance to minimum flow releases.

b. Project No: 2197-054.

c. Date Filed: July 22 and July 26, 2002.

d. Applicant: Alcoa Power Generating Inc.

e. Name of Project: Yadkin.

f. Location: The project is located on the Yadkin/Pee Dee River, in Montgomery, Stanley, Davidson, Rowan, and Davie Counties, North Carolina.

g. Filed Pursuant to: Federal Power Act, 16 USC 791 (a) 825(r) and §§ 799 and 801.

h. Applicant Contact: Julian Polk, Alcoa Power Generating Inc., 293 NC 740 Highway, P.O. Box 576, Badin, NC 28009-0576, (704) 422-5617.

i. FERC Contact: Any questions on this notice should be addressed to Mr. T.J. LoVullo at (202) 219-1168, or e-mail address: thomas.lovullo@ferc.gov .

j. Deadline for filing comments and or motions: August 23, 2002.

All documents (original and eight copies) should be filed with: Ms. Magalie R. Salas, Secretary, Federal Energy Regulatory Commission, 888 First Street, NE., Washington DC 20426. Please include the project number ( P-2197) on any comments or motions filed.

k. Description of Request: As the result of a meeting held on July 25, 2002, Alcoa Power Generating Inc. (APGI or licensee), Duke Energy, Carolina Power and Light, Commission staff, and representatives from the resources agencies with responsibility for water for the States of North Carolina and South Carolina concerning the drought in the project area and reservoir levels in the project reservoirs, there emerged a consensus that it would be prudent on behalf of all users of water in the watershed to further reduce minimum releases from the Yadkin Project from 1,200 cubic feet per second (cfs) to 900 cfs as measured at the Rockingham, NC stream gage. Accordingly, APGI requested from the Commission that it be granted a temporary variance of the license requirements permitting APGI to coordinate Yadkin Project operations with Carolina Power and Light's Tillery and Blewett Falls developments such that Pee Dee River flows, measured at the Rockingham gage, are at least 900 cfs on a daily basis through September 15, 2002. Secondly, APGI requested a temporary variance of the operating guides to draw down Narrows reservoir (Badin Lake) at increments to be determined in consultation with the Water Resources Division of the North Carolina Department of Environment and Natural Resources. On July 30, 2002, the Commission granted the licensee's requests, but reserved authority to require changes in project operation based upon comments received from this notice.

l. Location of the Application: A copy of the application is available for inspection and reproduction at the Commission's Public Reference Room, located at 888 First Street, NE, Room 2A, Washington, DC 20426, or by calling (202) 208-1371. This filing may also be viewed on the web at http://www.ferc.gov using the “RIMS” link, select “Docket#” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's web site at http://www.ferc.gov under the “e-Filing” link. The Commission strongly encourages electronic filings.

Linwood A. Watson, Jr.,
Deputy Secretary.

[FR Doc. 02-19919 Filed 8-6-02; 8:45 am]

BILLING CODE 6717-01-P